DEPARTMENT OF HEALTH AND HUMAN SERVICES

Centers for Medicare & Medicaid Services

[CMS-3386-CN]

Medicare Program; Approval of Application by The Compliance Team for Initial CMS-Approval of its Home Infusion Therapy Accreditation Program; Correction

AGENCY: Centers for Medicare & Medicaid Services (CMS), HHS.

ACTION: Final notice; correction.

SUMMARY: This document corrects a technical error that appeared in the final notice published in the Federal Register on September 28, 2020 entitled “Medicare Program; Approval of Application by The Compliance Team for Initial CMS-Approval of Its Home Infusion Therapy Accreditation Program.”

DATES: This correction is effective September 28, 2020.

FOR FURTHER INFORMATION CONTACT: Christina Mister-Ward, (410) 786-2441. Shannon Freeland, (410) 786-4348. Lillian Williams, (410) 786-8636.

SUPPLEMENTARY INFORMATION:

I. Background

In FR Doc. 2020-21260 of September 28, 2020 (85 FR 60799-60800), there was a technical error that is identified and corrected in this correcting document. The provision in this correction document is effective as if it had been included in the document published September 28, 2020. Accordingly, the correction is effective September 28, 2020.

II. Summary of Error

On page 60799, in the DATES section of the notice, the phrase “takes effect October 1, 2020 through October 1, 2024” should be replaced with the phrase “September 28, 2020-September 28, 2024.”

III. Correction of Error

In the Federal Register of September 28, 2020, in FR Doc. 2020-21260, on page 60799, in the 2nd column, in the DATES section, the phrase “takes effect October 1, 2020 through October 1, 2024” is corrected to read “September 28, 2020-September 28, 2024.”

Dated: September 28, 2020.
Wilma M. Robinson,
Deputy Executive Secretary to the Department, Department of Health and Human Services.

[FR Doc. 2020-21766 Filed 9-28-20; 4:15 pm]

BILLING CODE 4120-01-P